DEPARTMENT OF HEALTH AND HUMAN SERVICES

Agency for Healthcare Research and Quality

Agency Information Collection Activities: Proposed Collection; Comment Request

AGENCY: Agency for Healthcare Research and Quality, HHS.

ACTION: Information collection notice

SUMMARY: This notice announces the intention of the Agency for Healthcare Research and Quality (AHRQ) to request that the Office of Management and Budget (OMB) approve the a revision of the currently approved information collection project “Medical Expenditure Panel Survey—Household Component, OMB No. 0935-0118.”

DATES: Comments on this notice must be received by March 2, 2026.

ADDRESSES: Written comments should be submitted to: Margie Shofer, Reports Clearance Officer, AHRQ, by email at REPORTSCLEARANCEOFFICER@ahrq.hhs.gov. Copies of the proposed collection plans, data collection instruments, and specific details on the estimated burden can be obtained from the AHRQ Reports Clearance Officer.

FOR FURTHER INFORMATION CONTACT: Margie Shofer, AHRQ Reports Clearance Officer, (301) 427-1696, or by email at REPORTSCLEARANCEOFFICER@ahrq.hhs.gov.

SUPPLEMENTARY INFORMATION:

Proposed Project

Medical Expenditure Panel Survey—Household Component

The Medical Expenditure Panel Survey (MEPS), which began in 1996, is a set of large-scale surveys of families and individuals, their medical providers (doctors, hospitals, pharmacies, etc.), and employers across the United States. MEPS collects data on the specific health services that Americans use, how frequently they use them, the cost of these services, and how they are paid for, as well as data on the cost, scope, and breadth of health insurance held by and available to U.S. workers. MEPS data have become the linchpin for economic health care use and expenditures models. These data are vital in estimating the impact of changes in financing, coverage, and reimbursement policy on the U.S. healthcare system. No other survey provides the foundation for estimating the impact of changes in national policy on various segments of the U.S. population. These data continue to be essential for evaluating healthcare reform policies and analyzing the effect of tax code changes on healthcare expenditures and tax revenue.

The MEPS-Household Component (HC) and Medical Provider Component (MPC) have the following goals:

(1) To produce nationally representative estimates of health care use, expenditures, sources of payment, and health insurance coverage for the U.S. civilian noninstitutionalized population.

(2) To produce nationally representative estimates of respondents' health status, demographic and socio-economic characteristics, employment, access to care, and satisfaction with health care.

Each year a new panel of sample households is selected. Recent annual MEPS-HC sample sizes average about 10,350 households. Data can be analyzed at either the person, family, or event level. The panel design of the survey, which includes 5 Rounds of interviews covering 2 full calendar years, provides data for examining person level changes in selected variables such as expenditures, health insurance coverage, and health status. Using a combination of computer assisted personal interviewing (CAPI), computer assisted video interviewing (CAVI), and self-administered paper and web questionnaires, information about each household member is collected, and the survey builds on this information from interview to interview. CAVI is a newer data collection technology and offers the best of both telephone and in-person interviewing, while offering opportunities for cost savings and more accurate reporting.

Proposed Revisions: This Information Collection Request (ICR) is for a revision to the previously approved information collection—0935-0118 Medical Expenditure Panel Survey—Household Component (MEPS-HC).

These changes will be fielded in the Fall of 2026 and include:

• MEPS-HC Core Interview—Minor changes to twenty-four questions include revising language to make the questions clearer for a better response rate.

• MEPS Preventive Care Self-Administered Questionnaire (PSAQ):

○ Removing four questions on counseling and treatment, one question about birth control, two questions about aspirin use, and two questions about gender.

○ Reverting to the question used in the 2022 PSAQ about respondent sex.

○ Replacing two exercise items with five new items for exercise and strength training.

○ Adding questions about use of sleep medication, trouble getting to sleep, screen time, use of wearable devices, self-assessed diet quality, fruit and vegetable consumption, meals eaten away from home, former smoking, and weight loss attempt.

○ Minor changes in response categories to two questions.

• Burdens and Economic Impacts of Medical Care Self-Administered Questionnaire (ESAQ) and Diabetes Care Supplement (DCS): Both will be discontinued.

This study is being conducted by AHRQ through its contractors, Westat for the MEPS-HC and RTI for the MEPS-MPC, pursuant to AHRQ's statutory authority to conduct and support research on health care and on systems for the delivery of such care, 42 U.S.C. 299a(a)(1), and to conduct a survey on the cost, use, and quality of health care. 42 U.S.C. 299b-2.

Method of Collection

To achieve the goals of this project the following data collections will be implemented:

Household Component—The MEPS-HC consists of a core interview administered to all sampled households, supplemental interviews administered to selected individuals, permission forms and a validation interview:

(1) Core MEPS-HC Interview—All sampled households are administered the Core MEPS interview which collects health, health insurance, and employment data on all household members.

(2) Adult Self-Administered Questionnaire (Adult SAQ)—Completed by all adults 18 and older in the household in rounds 2 and 4 in odd years. Collects a variety of health status and health care quality measures of adults age 18 and older.

(3) Preventive Care Self-Administered Questionnaire (PSAQ)—Designed to collect a variety of person-level preventive health care data for adults 18 years and older.

(4) Authorization Forms for the MEPS-MPC Provider and Pharmacy Survey—Asks respondents for authorization to obtain supplemental information from their medical providers (hospitals, physicians, home health agencies and institutions) and pharmacies.

(5) MEPS Validation Interview—Each interviewer is required to have at least 15 percent of his/her caseload validated to ensure that Core questionnaire content was asked appropriately and procedures followed, for example, the use of show cards. In excess of this requirement, 100% of MEPS completes undergo validation efforts. Over 50% of cases are validated through the use of Westat's Eagle system which tracks GPS coordinates, matching them to respondent addresses and interview times. Computer Assisted Recorded Interview (CARI) review accounts for roughly 40% of MEPS case validation where EAGLE is not appropriate (CAVI interviews) or is not valid or available. The audio and screen capture from numerous questions is evaluated to ensure an interviewer and a respondent, proper question administration and show card usage. For cases that cannot be validated using CARI or GPS, phone validations are conducted to ensure proper procedures and administration. Mail validations are used as a final measure when other types of validation have not resulted in a validated case.

Medical Provider Component—Upon completion of the household interview and obtaining permission from the household survey respondents, a sample of medical providers and pharmacies are contacted by telephone to obtain information that household respondents cannot accurately provide. This part of the MEPS is called the Medical Provider Component (MPC) and information is collected on dates of visits, diagnosis and procedure codes, charges and payments for medical providers, and for pharmacies: dates of fills, ndc (or drug name, strength, dosage), quantity and days supplied, and payments. The MPC includes data collections for specific types of health care providers and pharmacies. There are no changes to the MPC data collection.

Estimated Annual Respondent Burden

Exhibit 1 shows the estimated annualized burden hours for the respondents' time to participate in the MEPS-HC and the MEPS-MPC.

MEPS-HC

1. MEPS-HC Core Interview—completed by 10,350 “family level” respondents. Since the MEPS-HC typically consists of 5 rounds of interviewing covering a full two years of data, the annual average number of responses per respondent is 2.5 responses per year. The MEPS-HC core requires an average response time of 87 minutes to administer.

2. Adult SAQ—completed once during the 2-year panel, in rounds 2 and 4 during odd numbered years, making the annualized average 0.5 times per year. The Adult SAQ will be completed by 12,395 adults and requires an average of 7 minutes to complete.

3. PSAQ—completed once during the 2-year panel, in rounds 2 and 4 during even numbered years, making the annualized average 0.5 times per year. The PSAQ will be completed by 12,395 adults and requires an average of 7 minutes to complete.

4. Authorization forms for the MEPS-MPC and Pharmacy Survey—completed by 17,388 individual respondents. Each respondent will complete an average of 3.6 forms each year, with each form requiring an average of 3 minutes to complete.

5. Validation interview—conducted with approximately 1,491 respondents each year and requires 5 minutes to complete.

The total annual burden hours for the respondents' time to participate in the MEPS-HC is estimated to be 42,219 hours.

MEPS-MPC

1. Contact Guide/Screening Call—conducted with 36,370 providers and pharmacies each year and requires 5 minutes to complete.

2. Home Health Care Providers Event Form—completed by 505 providers, with each provider completing an average of 5.66 form and each form requiring 3 minutes to complete.

3. Office-based Providers Event Form—completed by 8,074 providers. Each provider will complete an average of 3.58 forms and each form requires 3 minutes to complete.

4. Separately Billing Doctors Event Form—will be completed by 5,574 providers, with each provider completing 1.13 forms on average, and each form requiring 3 minutes to complete.

5. Hospital Event Form—completed by 3,482 hospitals or HMOs. Each hospital or HMO will complete 5.64 forms on average, with each form requiring 3 minutes to complete.

6. Institutions (non-hospital) Event Form—completed by 103 institutions, with each institution completing 1.25 forms on average, and each form requiring 3 minutes to complete.

7. Pharmacy Event Form—completed by 2,008 pharmacies. Each pharmacy will complete 21.15 forms on average, with each form requiring 3 minutes to complete.

The total burden hours for the respondents' time to participate in the MEPS-MPC is estimated to be 8,045 hours. The total annual burden hours for the MEPS-HC and MPC is estimated to be 50,264 hours.

Exhibit 1—MEPS-HC and MPC Estimated Annualized Respondents and Burden Hours
[2026 to 2028]
Form name | Number of respondents | Number of responses per respondent | Hours per response | Total burden hours
MEPS-HC:
1. MEPS-HC Core Interview | 10,350 | 2.5 | 87/60 | 37,519
2. Adult SAQ * | 12,395 | 0.5 | 7/60 | 723
3. Preventive Care SAQ (PSAQ) ** | 12,395 | 0.5 | 7/60 | 723
4. Authorization forms for the MEPS-MPC Provider and Pharmacy Survey | 17,388 | 3.6 | 3/60 | 3,130
5. MEPS Validation Interview | 1,491 | 1 | 5/60 | 124
Subtotal for the MEPS-HC | 54,019 |  |  | 42,219
MEPS-MPC:
1. Contact Guide/Screening Call | 36,370 | 1 | 5/60 | 3,031
2. Home Health Care Providers Event Form | 505 | 5.66 | 3/60 | 143
3. Office-based Providers Event Form | 8,074 | 3.58 | 3/60 | 1,445
4. Separately Billing Doctors Event Form | 5,574 | 1.13 | 3/60 | 315
5. Hospitals & HMOs (Hospital Event Form) | 3,482 | 5.64 | 3/60 | 982
6. Institutions (non-hospital) Event Form | 103 | 1.25 | 3/60 | 6
7. Pharmacies Event Form | 2,008 | 21.15 | 3/60 | 2,123
Subtotal for the MEPS-MPC | 56,116 |  |  | 8,045
Grand Total | 110,135 |  |  | 50,264
* The Adult SAQ is completed once every two years, on the odd numbered years.
** The PSAQ is completed once every two years, on the even numbered years.

Exhibit 2 shows the estimated annual cost burden associated with the respondents' time to participate in this information collection. The annual cost burden for the MEPS-HC is estimated to be $2,757,745 and the annual cost burden for the MEPS-MPC is estimated to be $350,960. The total annual cost burden for the MEPS-HC and MPC is estimated to be $3,108,705.

Exhibit 2—Estimated Annualized Cost Burden
Form name | Total burden hours | Average hourly wage rate * | Adjusted hourly wage rate ** | Total cost burden
MEPS-HC:
1. MEPS-HC Core Interview | 37,519 | ᵃ $32.66 | $65.32 | $2,450,741
2. Adult SAQ * | 723 | ᵃ 32.66 | 65.32 | 47,226
3. Preventive Care SAQ (PSAQ) ** | 723 | ᵃ 32.66 | 65.32 | $47,226
4. Authorization forms for the MEPS-MPC Provider and Pharmacy Survey | 3,130 | ᵃ 32.66 | 65.32 | 204,452
5. MEPS Validation Interview | 124 | ᵃ 32.66 | 65.32 | 8,100
Subtotal for the MEPS-HC | 42,219 |  |  | 2,757,745
MEPS-MPC:
1. Contact Guide/Screening Call | 3,031 | ᵇ 21.91 | 43.82 | 132,818
2. Home Health Care Providers Event Form | 143 | ᵇ 21.91 | 43.82 | 6,266
3. Office-based Providers Event Form | 1,445 | ᵇ 21.91 | 43.82 | 63,320
4. Separately Billing Doctors Event Form | 315 | ᵇ 21.91 | 43.82 | 13,803
5. Hospitals & HMOs (Hospital Event Form) | 982 | ᵇ 21.91 | 43.82 | 43,031
6. Institutions (non-hospital) Event Form | 6 | ᵇ 21.91 | 43.82 | 263
7. Pharmacies Event Form | 2,123 | ᶜ 21.54 | 43.08 | 91,459
Subtotal for the MEPS-MPC | 8,045 |  |  | 350,960
Grand Total | 50,264 |  |  | 3,108,705
* National Compensation Survey: Occupational wages in the United States May 2024, “U.S. Department of Labor, Bureau of Labor Statistics.”
** The Adjusted Hourly Rate was estimated at 200% of the hourly wage.
ᵃ Mean hourly wage for All Occupations (00-0000).
ᵇ Mean hourly wage for Medical Secretaries (43-6013).
ᶜ Mean hourly wage for Pharmacy Technicians (29-2052).

Request for Comments

In accordance with the Paperwork Reduction Act, 44 U.S.C. 3501-3520, comments on AHRQ's information collection are requested with regard to any of the following: (a) whether the proposed collection of information is necessary for the proper performance of AHRQ's health care research and health care information dissemination functions, including whether the information will have practical utility; (b) the accuracy of AHRQ's estimate of burden (including hours and costs) of the proposed collection(s) of information; (c) ways to enhance the quality, utility and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: December 19, 2025.
Jeffrey Tovin,
Executive Officer.

[FR Doc. 2025-23964 Filed 12-29-25; 8:45 am]

BILLING CODE 4160-90-P